DEPARTMENT OF TRANSPORTATION

Federal Aviation Administration

14 CFR Part 97

[Docket No. 30307; Amdt. No. 3004]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective data for each SIAP is specified in the amendatory provisions.

Incorporation by reference-approved by the Director of the Federal Register on December 31, 1980, and reapproved as of January 1, 1982.

ADDRESSES: Availability of matter incorporated by reference in the amendment is as follows:

For Examination—

1. FAA Rules Docket, FAA Headquarters Building, 800 Independence Avenue, SW., Washington, DC 20591;

2. The FAA regional Office of the region in which affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: P.O. Box 25082, Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/T NOTAMs for the SIAPs contained in this amendment are based on the criteria contained in the U.S. Standard for Terminal Instrument Procedures (TERPS). In developing these chart changes to SIAPs by FDC/T NOTAMs, the TERPS criteria were applied to only these specific conditions existing at the affected airports. All SIAP amendments in this rule have been previously issued by the FAA in a National Flight Data Center (FC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order, 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Navigation (Air).

Issued in Washington, DC on April 26, 2002.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§§ 97.23, 97.25, 97.27, 97.29, 97.31, 97.33, and 97.35 [Amended]

By amending: § 97.23 VOR, VOR/DME, VOR or TACAN, and VOR/DME OR TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

. . . Effective Upon Publication

FDC date | State | City | Airport | FDC No. | Subject
10/05/01 | TX | WACO | McGREGOR EXECUTIVE | 1/0966 | VOR RWY 17, AMDT 10A
10/26/01 | TX | SAN ANTONIO | SAN ANTONIO INTL | 1/1648 | NDB RWY 12R, AMDT 20C
03/06/02 | NY | BINGHAMTON | BINGHAMTON REGIONAL/EDWIN A. LINK FIELD | 2/1950 | ILS RWY 16, AMDT 6A. THIS CORRECTS FDC 2/1950 PUBLISHED IN TL02-08.
04/10/02 | PA | HARRISBURG | CAPITAL CITY | 2/2898 | ILS RWY 8, AMDT 10D
04/10/02 | OK | OKLAHOMA CITY | WILL ROGERS WORLD | 2/2910 | NDB RWY 35R, AMDT 5B
04/10/02 | OK | OKLAHOMA CITY | WILL ROGERS WORLD | 2/2917 | ILS RWY 35R (CAT I, II) AMDT 8C
04/10/02 | OK | OKLAHOMA CITY | WILL ROGERS WORLD | 2/2919 | RNAV (GPS) RWY 35R, ORIG
04/10/02 | OK | OKLAHOMA CITY | WILL ROGERS WORLD | 2/2921 | LOC BC RWY 35L, AMDT 10C
04/11/02 | TX | McKINNEY | McKINNEY MUNI | 2/2838 | ILS RWY 17, AMDT 1B
04/11/02 | TX | BONHAM | JONES FIELD | 2/2934 | VOR/DME RWY 17, ORIG
04/11/02 | TX | GREENVILLE | MAJORS | 2/2937 | VOR/DME RWY 17, ORIG-B
04/11/02 | TX | McKINNEY | McKINNEY MUNI | 2/2941 | GPS RWY 35, ORIG-A
04/11/02 | TX | McKINNEY | McKINNEY MUNI | 2/2943 | VOR/DME-A, ORIG-B
04/11/02 | TX | SHERMAN/DENISON | GRAYSON COUNTY | 2/2946 | ILS RWY 17L, ORIG
04/11/02 | TX | SHERMAN/DENISON | GRAYSON COUNTY | 2/2947 | VOR/DME-A, ORIG-A
04/11/02 | TX | SHERMAN/DENISON | GRAYSON COUNTY | 2/2949 | NDB OR GPS RWY 17L, AMDT 9A
04/11/02 | TX | SHERMAN/DENISON | GRAYSON COUNTY | 2/2950 | VOR/DME RNAV RWY 35R, ORIG-B
04/11/02 | TX | SHERMAN | SHERMAN MUNI | 2/2957 | VOR/DME-A, ORIG
04/11/02 | CA | VISALIA | VISALIA MUNI | 2/2976 | ILS RWY 30, AMDT 5B
04/15/02 | WV | LOGAN | LOGAN COUNTY | 2/3052 | GPS RWY 6, ORIG
04/15/02 | WV | LOGAN | LOGAN COUNTY | 2/3053 | GPS RWY 24, ORIG
04/16/02 | WI | MILWAUKEE | LAWRENCE J. TIMMERMAN | 2/3072 | VOR OR GPS RWY 15L, AMDT 13
04/16/02 | TX | GREENVILLE | MAJORS | 2/3083 | ILS RWY 17, AMDT 5A
04/16/02 | TX | GREENVILLE | MAJORS | 2/3084 | ILS 2 RWY 17, AMDT 4A
04/16/02 | TX | GREENVILLE | MAJORS | 2/3085 | NDB OR GPS RWY 17, AMDT 5B
04/16/02 | TX | GREENVILLE | MAJORS | 2/3086 | TACAN RWY 17, AMDT 2A ROW> | 04/17/02 | IL | CHICAGO/AURORA | AURORA MUNI | 2/3099 | VOR RWY 15, ORIG-A
04/17/02 | TN | DICKSON | DICKSON MUNI | 2/3126 | VOR/DME OR GPS RWY 17, AMDT 4
04/17/02 | TN | DICKSON | DICKSON MUNI | 2/3127 | NDB RWY 17, AMDT 2
04/17/02 | NV | LAS VEGAS | McCARRAN INTL | 2/3131 | ILS RWY 25L, AMDT 3
04/18/02 | TX | DALLAS-FORTH WORTH | DALLAS-FORT WORTH INTERNATIONAL | 2/3171 | RNAV (GPS) RWY 13R, ORIG
04/18/02 | TX | DALLAS-FORT WORTH | DALLAS-FORT WORTH INTERNATIONAL | 2/3172 | ILS RWY 13R, AMDT 6
04/18/02 | TX | McKINNEY | McKINNEY MUNI | 2/3178 | GPS RWY 17, ORIG-B
04/18/02 | TX | ATLANTA | HALL-MILLER | 2/3179 | RNAV (GPS) RWY 5, ORIG
04/18/02 | VA | RICHMOND/ASHLAND | HANOVER COUNTY MUNI | 2/3184 | NDB RWY 16, ORIG-C
04/18/02 | CA | LOS ANGELES | LOS ANGELES INTL | 2/3204 | ILS RWY 24R (CAT I, II, III) AMDT 22
04/19/02 | VA | ROANOKE | ROANOKE REGIONAL/WOODRUM | 2/3228 | LDA RWY 6, AMDT 7B
04/19/02 | KS | WICHITA | CESSNA AIRCRAFT FIELD | 2/3256 | VOR OR GPS-C, ORIG-A
04/19/02 | WV | PINEVILLE | KEE FIELD | 2//3258 | GPS RWY 7, ORIG
04/19/02 | WV | PINEVILLE | KEE FIELD | 2/3259 | GPS RWY 25, ORIG
04/19/02 | VA | ROANOKE | ROANOKE REGIONAL/WOODRUM | 2/3262 | ILS RWY 33, AMDT 11
04/19/02 | NY | ROCHESTER | GREATER ROCHESTER INTL | 2/3280 | ILS RWY 4, AMDT 17
04/19/02 | NY | ROCHESTER | GREATER ROCHESTER INTL | 2/3281 | ILS RWY 22, AMDT 5. THIS REPLACES FDC 2/2747 IN TL02-11.
04/19/02 | NY | ROCHESTER | GREATER ROCHESTER INTL | 2/3283 | RNAV (GPS) RWY 22, ORIG-A. THIS REPLACES FDC 2/2752 IN TLOS-11.
04/19/02 | AK | ANCHORAGE | TED STEVENS ANCHORAGE INTL | 2/3284 | NDB RWY 6R, AMDT 6E
04/19/02 | NY | ROCHESTER | GREATER ROCHESTER INTL | 2/3286 | ILS RWY 4, (CAT II), AMDT 17. THIS REPLACES FDC 2/2746 IN TL02-11.
04/22/02 | SC | UNION | UNION COUNTY-TROY SHELTON FIELD | 2/3348 | NDB RWY 5, ORIG
04/22/02 | CA | JACKSON | WESTOVER FIELD AMADOR COUNTY | 2/3364 | GPS RWY 1, ORIG
04/22/02 | CA | JACKSON | WESTOVER FIELD AMADOR COUNTY | 2/3365 | VOR/DME RWY 1, AMDT 1
04/22/02 | CA | SACRAMENTO | McCLELLAN AIRFIELD | 2/3367 | ILS RWY 16, ORIG-A
04/23/02 | VA | RICHMOND/ASHLAND | HANOVER COUNTY MUNI | 2/3383 | GPS RWY 16, AMDT 1A

[FR Doc. 02-10940 Filed 5-1-02; 8:45 am]

BILLING CODE 4910-13-M